DEPARTMENT OF HOMELAND SECURITY

[Docket No. DHS-2023-0044]

Homeland Security Academic Partnership Council

AGENCY: The Office of Partnership and Engagement (OPE), The U.S. Department of Homeland Security (DHS).

ACTION: Notice of public meeting of the Homeland Security Academic Partnership Council.

SUMMARY: The Homeland Security Academic Partnership Council (HSAPC) will hold a virtual meeting on Wednesday, December 13, 2023 from 3:30 p.m. EST to 4:30 p.m. EST. Public participation is welcome via Zoom pre-registration.

DATES: The meeting will take place from 3:30 p.m. EST to 4 p.m. EST on Wednesday, December 13, 2023. Please note that the meeting may end early if the Council completes its business.

ADDRESSES: The HSAPC meeting will be held via Zoom. Members of the public interested in participating may do so by following the process outlined below. The public will remain in listen-only mode except during the public comment session. Members of the public may register to participate in this Council meeting via Zoom under the following procedures. Each individual must provide their full legal name and email address no later than 5 p.m. EST on Tuesday, December 12, 2023 to Zarinah “Traci” Silas via email at HSAPC@hq.dhs.gov or via phone at 202-891-2876. Members of the public who have registered to participate will be provided the Zoom link after the closing of the public registration period and prior to the start of the meeting. Written comments may be submitted no later than 5 p.m. EST on Friday, December 22, 2023. Comments must be identified by Docket No. DHS-2023-0044 and may be submitted using one of the following methods:

• Federal eRulemaking Portal: http://www.regulations.gov. Follow the instructions for submitting comments, OR

• Email: HSAPC@hq.dhs.gov. Include Docket No. DHS-2023-0044 in the subject line of the message.

Instructions: All submissions received must include the words “Department of Homeland Security” and “DHS-2023-0044,” the docket number for your comments. Comments received will be posted without alteration at http://www.regulations.gov, including any personal information provided. You may wish to review the Privacy and Security Notice found via a link on the homepage of www.regulations.gov.

Docket: For access to the docket to read comments received by the Council, go to http://www.regulations.gov, search “DHS-2023-0044,” and “Open Docket Folder” to view the comments.

FOR FURTHER INFORMATION CONTACT: Zarinah “Traci” Silas, Executive Director of the Office of Academic Engagement and Designated Federal Officer of the Homeland Security Academic Partnership Council, U.S. Department of Homeland Security at HSAPC@hq.dhs.gov or 202-891-2876.

SUPPLEMENTARY INFORMATION: Notice of this meeting is provided in accordance with section 10(a) of the Federal Advisory Committee Act (FACA), Public Law 117-286 (5 U.S.C. ch. 10), which requires all FACA committee meetings to be open to the public unless the President, or the head of the Agency to which the advisory committee reports, determines that a portion of the meeting requires closing it to the public in accordance with 5 U.S.C. 552b(c).

The HSAPC provides organizationally independent, strategic, timely, specific, and actionable recommendations to the Secretary on key issues at the intersection of education, academia, and the DHS mission.

Due to the current Middle East conflict, the Secretary requested that the HSAPC form a Subcommittee to provide advice and recommendations on ways DHS can support the academic community in protecting against campus violence and promoting inclusivity across K-12 and higher education institutions. The meeting will include:

(1) Remarks from Senior DHS leaders and HSAPC Chairperson,

(2) Member discussion, public comment, deliberation and voting on one draft report from the School and Campus Safety Considering the Conflict in the Middle East Subcommittee.

Members of the public will remain in listen-only mode except during the public comment session. Members of the public may pre-register to attend this Council meeting via Zoom by sending each individual attendee's full legal name and email address to Executive Director Zarinah “Traci” Silas via email to HSAPC@hq.dhs.gov or via phone at 202-891-2876 no later than 5 p.m. EST on Friday, December 8, 2023.

Members of the public who have pre-registered to attend will be provided the Zoom link after the closing of the public registration period and prior to the start of the meeting. For more information about the HSAPC, please visit our website: https://www.dhs.gov/homeland-security-academic-partnership-council-hsapc.

Lastly, the Department is committed to ensuring all participants have equal access and opportunity to attend the meeting. If you require reasonable accommodations, please send your request to Zarinah “Traci” Silas at HSAPC@hq.dhs.gov or via phone at 202-891-2876 no later than 5 p.m. EST on Wednesday, December 6, 2023 for handling.

Zarinah T. Silas,
Designated Federal Officer, Homeland Security Academic Partnership Council, U.S. Department of Homeland Security.

[FR Doc. 2023-26048 Filed 11-24-23; 8:45 am]

BILLING CODE 9112-FN-P